ENVIRONMENTAL PROTECTION AGENCY

40 CFR Parts 52 and 81

[EPA-R04-OAR-2006-0676-200622(b); FRL-8239-4]

Approval and Promulgation of Implementation Plans and Designation of Areas for Air Quality Planning Purposes; NC; Redesignation of the Rocky Mount 8-Hour Ozone Nonattainment Area to Attainment

AGENCY: Environmental Protection Agency (EPA).

ACTION: Proposed rule.

SUMMARY: On June 19, 2006, the State of North Carolina, through the North Carolina Department of Environment and Natural Resources, Division of Air Quality, submitted a final request: To redesignate the Rocky Mount 8-hour ozone nonattainment area to attainment for the 8-hour ozone National Ambient Air Quality Standard, and to approve a North Carolina State Implementation Plan revision containing a maintenance plan for Rocky Mount, North Carolina. The Rocky Mount 8-hour ozone nonattainment area is comprised of two counties, Edgecombe and Nash. EPA is proposing to approve the 8-hour ozone redesignation request for the Rocky Mount 8-hour ozone nonattainment area. Additionally, EPA is proposing to approve the 8-hour ozone maintenance plan for Rocky Mount, North Carolina. This proposal is based on EPA's determination that the State of North Carolina has demonstrated that the Rocky Mount area has met the criteria for redesignation to attainment specified in the Clean Air Act, including the determination that the entire Rocky Mount 8-hour ozone nonattainment area has attained the 8-hour ozone standard. In this action, EPA is also finding adequate and proposing to approve the 2008 and 2017 motor vehicle emissions budgets (MVEBs) for nitrogen oxides (for both Edgecombe and Nash counties) that are contained in the 8-hour ozone maintenance plan for the Rocky Mount nonattainment area. North Carolina has established subarea MVEBs at the county level so each county must consider its individual subarea MVEBs for the purposes of implementing transportation conformity. Further, in this action, EPA is proposing to find adequate and to approve the insignificance determination for volatile organic compounds' contribution from motor vehicle emissions to the 8-hour ozone pollution in the Rocky Mount, North Carolina area.

DATES: Written comments must be received on or before December 6, 2006.

ADDRESSES: Submit your comments, identified by Docket ID No EPA-R04-OAR-2006-0676, by one of the following methods:

1. http://www.regulations.gov: Follow the online instructions for submitting comments.

2. E-mail: ward.nacosta@epa.gov or wood.amanetta@epa.gov.

3. Fax: 404-562-9019.

4. Mail: “EPA-R04-OAR-2006-0676”, Regulatory Development Section, Air Planning Branch, Air, Pesticides and Toxics Management Division, U.S. Environmental Protection Agency, Region 4, 61 Forsyth Street, SW., Atlanta, Georgia 30303-8960.

5. Hand Delivery or Courier. Deliver your comments to: Nacosta C. Ward or Amanetta Wood, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding Federal holidays.

Please see the direct final rule which is located in the Rules section of this Federal Register for detailed instructions on how to submit comments.

FOR FURTHER INFORMATION CONTACT: Nacosta C. Ward may be reached by phone at (404) 562-9140 and via electronic mail at ward.nacosta@epa.gov. Amanetta Wood may be reached by phone at (404) 562-9025 and via electronic mail at wood.amanetta@epa.gov.

SUPPLEMENTARY INFORMATION: For additional information see the direct final rule which is published in the Rules section of this Federal Register.

Dated: October 24, 2006.
A. Stanley Meiburg,
Acting Regional Administrator, Region 4.

[FR Doc. E6-18582 Filed 11-3-06; 8:45 am]

BILLING CODE 6560-50-P